NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on March 6-8, 2003, in Conference Room T-2B3, 11545 Rockville Pike, Rockville, Maryland. The date of this meeting was previously published in the Federal Register on Monday, November 20, 2002 (67 FR 70094).

Thursday, March 6, 2003

8:30 a.m.-8:35 a.m.: Opening Statement by the ACRS Chairman (Open)—The ACRS Chairman will make opening remarks regarding the conduct of the meeting.

8:35 a.m.-10:15 a.m.: Peach Bottom License Renewal Application (Open)—The Committee will hear presentations by and hold discussions with representatives of the NRC staff and the Exelon Generation Corporation, LLC, regarding the license renewal application for the Peach Bottom Nuclear Plant, Units 2 and 3 and the associated NRC staff's final Safety Evaluation Report.

10:30 a.m.-12:30 p.m.: Reactor Oversight Process (Open)—The Committee will hear presentations by and hold discussions with representatives of the NRC staff regarding staff's views concerning ACRS recommendation on thresholds for performance indicators (PIs); staff's efforts associated with risk-based PIs and improvements to the significance determination process (SDP); and staff's activities for resolving apparent conflicts and discrepancies between aspects of the revised reactor oversight process that are risk informed (e.g., SDP) and those that are performance based (e.g., PIs).

1:30 p.m.-3:30 p.m.: Vessel Head Penetration Cracking and Vessel Head Degradation (Open)—The Committee will hear presentations by and hold discussions with representatives of the NRC staff regarding industry responses to NRC Bulletin 2002-02, “Reactor Pressure Vessel Head Degradation and Reactor Coolant Pressure Boundary Integrity,” inspection requirements and programs for reactor pressure vessel heads and vessel head penetration nozzles, Electric Power Research Institute's Materials Reliability Program's proposed inspection program, wastage research, and related matters.

3:45 p.m.-5 p.m.: Draft Final Revision 1 to Regulatory Guide 1.180 (DG-1119) “Guidelines for Evaluating Electromagnetic and Radio-Frequency Interference In Safety-Related Instrumentation and Control Systems” (Open)—The Committee will hear presentations by and hold discussions with representatives of the NRC staff regarding the draft final revision 1 to Regulatory Guide 1.180 (DG-1119) and the staff's resolution of public comments.

5:15 p.m.-7:15 p.m.: Proposed ACRS Reports (Open)—The Committee will discuss proposed ACRS reports on matters considered during this meeting, as well as a proposed ACRS report on Safety Culture.

Friday, March 7, 2003

8:30 a.m.-8:35 a.m.: Opening Remarks by the ACRS Chairman (Open)—The ACRS Chairman will make opening remarks regarding the conduct of the meeting.

8:35 a.m.-10:30 a.m.: Early Site Permit Process (Open)—The Committee will hear presentations by and hold discussions with representatives of the NRC staff regarding draft review standard RS-002, “Processing Applications for Early Site Permits,” and related matters.

10:45 a.m.-11:45 a.m.: Overview of the Format and Content of the Fort Calhoun License Renewal Application (Open)—The Committee will hear presentations by and hold discussions with representatives of the NRC staff on the format and content of the Fort Calhoun Nuclear Plant license renewal application, the first plant to submit a license renewal application using the generic license renewal guidance documents.

12:45 p.m.-1:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

1:30 p.m.-1:45 p.m.: Reconciliation of ACRS Comments and Recommendations (Open)—The Committee will discuss the responses from the NRC Executive Director for Operations (EDO) to comments and recommendations included in recent ACRS reports and letters. The EDO responses are expected to be made available to the Committee prior to the meeting.

2 p.m.-4 p.m.: Preparation for Meeting with the NRC Commissioners (Open)—The Committee will discuss proposed topics for discussion during the ACRS meeting with the NRC Commissioners which is scheduled to be held on Friday, April 11, 2003, between 9 a.m. and 11 a.m.

4:15 p.m.-7 p.m.: Proposed ACRS Reports (Open)—The Committee will discuss proposed ACRS reports.

Saturday, March 8, 2003

8:30 a.m.-1 p.m.: Proposed ACRS Reports (Open)—The Committee will continue to discuss proposed ACRS reports. In addition, the Committee will discuss a draft white paper prepared by the ACRS Senior Fellow on the role and use of PRA in the regulatory decisionmaking process.

1 p.m.-1:30 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: February 13, 2003.
Andrew L. Bates,
Advisory Committee Management Officer.

[FR Doc. 03-4109 Filed 2-20-03; 8:45 am]

BILLING CODE 7590-01-P